DEPARTMENT OF COMMERCE

National Oceanic and Atmospheric Administration

[I.D. 032106F]

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of the Coral Reef Ecosystem Plan Team (CREPT) in Honolulu, HI to discuss development of annual reports for coral reef ecosystem fisheries of the Western Pacific Region.

DATES: The CREPT meeting will be held from 9 a.m. to 5 p.m. on April 11, 2006 and from 8:30 a.m. to 5 p.m. on April 12, 2006. For specific times, and the agenda, see SUPPLEMENTARY INFORMATION.

ADDRESSES: The meeting of the CREPT will be held at the Western Pacific Fishery Management Council conference room, 1164 Bishop Street, Suite 1400, Honolulu, HI.

FOR FURTHER INFORMATION CONTACT: Kitty M. Simonds, Executive Director; telephone: (808) 522-8220.

SUPPLEMENTARY INFORMATION: The CREPT will meet to discuss the following agenda items:

April 11, 2006, 9 a.m.-5 p.m.

1. Introductions

2. Approval of Draft Agenda

3. Update on Recent Council Actions

A. NWHI Fishing Regulations

B. Development of Western Pacific Fishery Ecosystem Plans

4. Development of Annual Report for Coral Reef Ecosystem Fisheries of the Western Pacific Region

April 12, 2006 8:30 a.m.-5 p.m.

5. Review of MSA Overfishing Definitions and Control Rules

6. Refining Coral Reef Ecosystem Stock Indicators

7. Public Comments

8. Discussion and Recommendations

The order in which agenda items addressed may change. Public comment periods will be provided throughout the agenda. The Plan Team will meet as late as necessary to complete scheduled business.

Agenda Background Information

This meeting is being convened to continue development of an annual report for coral reef ecosystem fisheries of the western Pacific region, to discuss the proposed changes to national standard 1 of the Magnuson-Stevens Fishery Conservation and Management Act and to consider appropriate ecosystem-level approaches for monitoring the diverse and numerous coral reef ecosystem management unit species consistent with national standard 1.

Although non-emergency issues not contained in this agenda may come before the Plan Team for discussion, those issues may not be the subject of formal action during this meeting. Plan Team action will be restricted to those issues specifically listed in this document and any issue arising after publication of this document that requires emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority:

16 U.S.C. 1801 et seq.

Dated: March 22, 2006.
Tracey L. Thompson,
Acting Director, Office of Sustainable Fisheries, National Marine Fisheries Service.

[FR Doc. E6-4349 Filed 3-24-06; 8:45 am]

BILLING CODE 3510-22-S